DEPARTMENT OF TRANSPORTATION

Federal Aviation Administration

[Docket No. FAA-2026-1344]

RIN 2120-AL84

Agency Information Collection Activities: Requests for Comments; Clearance of a Renewed Approval of Information Collection: Flight Operations Quality Assurance (FOQA) Program; Correction

AGENCY: Federal Aviation Administration (FAA), U.S. Department of Transportation (DOT).

ACTION: Notice; correction.

SUMMARY: On January 28, 2026, FAA published a notice and request for comments titled “Agency Information Collection Activities: Requests for Comments; Clearance of a Renewed Approval of Information Collection: Flight Operations Quality Assurance (FOQA) Program.” That notice and request for comments incorrectly stated the docket number. This notice corrects the docket number.

DATES: Applicable February 11, 2026.

FOR FURTHER INFORMATION CONTACT: Sean C. Denniston, Flight Standards, Office of Safety Standards, Safety Management Branch (AFS-940), Federal Aviation Administration, Office of Safety Standards, 800 Independence Avenue SW, Washington, DC 20591; email sean.denniston@faa.gov.

SUPPLEMENTARY INFORMATION: On January 28, 2026, FR Doc. 2026-01658, “Agency Information Collection Activities: Requests for Comments; Clearance of a Renewed Approval of Information Collection: Flight Operations Quality Assurance (FOQA) Program” notice was published in the Federal Register, at 91 FR 3766. After publication, the FAA discovered that the docket number was incorrect. This was not the FAA's intent. The old docket number FAA-2120-0660 has been removed and replaced by the new docket number FAA-2026-1344.

Issued in Washington, DC.
Hugh J. Thomas,
Acting Executive Director, Flight Standards Service.

[FR Doc. 2026-02716 Filed 2-10-26; 8:45 am]

BILLING CODE 4910-13-P